DEPARTMENT OF ENERGY

Federal Energy Regulatory Commission

[Docket No. RP06-365-000; Docket No. RP06-231-002]

Columbia Gas Transmission Corporation; Norstar Operating, LLC v. Columbia Gas Transmission Corporation; Notice of Meeting

September 12, 2006.

Take notice that a meeting will be held in the above-captioned proceeding on Tuesday, September 26, 2006, at 1 p.m. (EDT), at 200 Civic Center Drive, Columbus, Ohio 43215.

The purpose of the meeting is to discuss the basics of pipeline corrosion including measurement, assessment, and control methods, as well as history and experience.

Attendance is limited to Commission Staff and parties to the proceeding. Those parties who want to attend should contact Sharon Taylor at 304-357-3393.

Magalie R. Salas,
Secretary.

[FR Doc. E6-15424 Filed 9-15-06; 8:45 am]

BILLING CODE 6717-01-P